DEPARTMENT OF ENERGY

Energy Information Administration

American Statistical Association Committee on Energy Statistics

AGENCY: Department of Energy.

ACTION: Notice of Open Meeting.

SUMMARY: This notice announces a meeting of the American Statistical Association Committee on Energy Statistics, a utilized Federal Advisory Committee. The Federal Advisory Committee Act (Pub. L. 92-463, 86 Stat. 770) requires that public notice of these meetings be announced in the Federal Register.

Date and Time: Thursday, October 25, 2001 8:30 am-5 pm; Friday, October 26, 2001 8:30 am-11:30 a.m.

Place: U.S. Department of Energy, Room 6E-069, 1000 Independence Ave., SW., Washington, DC 20585.

FOR FURTHER INFORMATION CONTACT: Mr. William I. Weinig, EI-70, Committee Liaison, Energy Information Administration, U.S. Department of Energy, Washington, DC 20585, Telephone: (202) 287-1709. Alternately, Mr. Weinig may be contacted by email at william.weinig@eia.doe.gov or by FAX at (202) 287-1705.

Purpose of Committee: To advise the Department of Energy, Energy Information Administration (EIA), on EIA technical statistical issues and to enable the EIA to benefit from the Committee's expertise concerning other energy-related statistical matters.

Tentative Agenda

Thursday, October 25, 2001

A. Opening Remarks by the ASA Committee Chair, the EIA Acting Administrator and the Acting Director, Statistics and Methods Group, EIA. Room 6E-069

B. Major Topics (Room 6E-069 unless otherwise noted)

1. Results of the first EIA-Sponsored ASA Fellowship

2. A Briefing on two recent EIA studies provided the U.S. Senate: Analysis of Strategies for Reducing Multiple Emissions from Power Plants

3. Reestimation of Natural Gas Production Data: A General Presentation

4. Public Questions and Comments

5. Reestimation of Natural Gas Production Data: The Details (Room 5E-069)

6. Progress on the International (MARKAL) Model Development (Room 5E-081)

7. A Survey of Steam-Only Facilities Using Biomass Feedstocks

8. EIA Performance Measures

9. How to Implement Significant Survey Redesigns: Form EIA-176 (Room 5E-069)

10. New Modeling and Forecasting Approaches: An ASA Panel Discussion (Room 5E-081)

11. Public Questions and Comments

Friday, October 26, 2001, Room 6E-089

C. Major Topics

1. New Developments with the Alternative Fueled Vehicles Survey

2. Measuring Consumption by Energy-Use Sector: Options for Obtaining Data in the Future

3. Clarification of Small Area/Imputation Technique, and Study of Resulting Bias

4. Information Quality Guidelines and the Standards Project

5. Public Questions and Comments

D. Closing Remarks by the Chair

Public Participation

The meeting is open to the public. The Chair of the Committee is empowered to conduct the meeting in a fashion that will facilitate the orderly conduct of business. Written statements may be filed with the committee either before or after the meeting. If there are any questions, please contact Mr. William I. Weinig, EIA Committee Liaison, at the address or telephone number listed above.

Minutes

Available for public review and copying at the Public Reading Room, (Room 1E-190), 1000 Independence Avenue, SW., Washington, DC 20585, (202) 586-3142, between the hours of 9 a.m. and 4 p.m., Monday through Friday.

Issued at Washington, DC on October 4, 2001.
Rachel M. Samuel,
Deputy Advisory Committee, Management Officer.

[FR Doc. 01-25438 Filed 10-9-01; 8:45 am]

BILLING CODE 6450-01-P